FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 7, 2017.

A. Federal Reserve Bank of Atlanta (Kathryn Haney, Director of Applications) 1000 Peachtree Street NE., Atlanta, Georgia 30309. Comments can also be sent electronically to Applications.Comments@atl.frb.org:

1. Gregory W. Griffith, Silver Spring, Maryland; Beverly Franklin Hales, Peachtree City, Georgia; Ethel Stephanie Stuckey Benfield, Atlanta, Georgia; Russell D. Franklin, Tallahassee, Florida; Jay Gould Stuckey, Los Angeles, California; Scott M. Stuckey, Los Angeles, California; Marietta Bryson Stuckey, Augusta, Georgia; W. S. Stuckey IV, Augusta, Georgia; James Austin Putnam, Eastman, Georgia; Williamson Elliott Putnam, Eastman, Georgia; Christine, S. Boland, Washington, DC; Michelle S. Stuckey, Atlanta, Georgia; Andrew Stuckey, Brookline, Massachusetts; Todd Giddens as Trustee of the LSF Family Trust, Dublin, Georgia, and Gregory W. Griffith as Trustee of the WSS Family Trust, Silver Spring, Maryland; to retain voting shares of Citizens Corporation, and thereby indirectly retain voting shares of Citizens Bank & Trust Company, both of Eastman, Georgia.

B. Federal Reserve Bank of Chicago (Colette A. Fried, Assistant Vice President) 230 South LaSalle Street, Chicago, Illinois 60690-1414:

1. Linda Sue Baier, individually and together with James Alan Bair, both of Fort Madison, Iowa as a group acting in concert; to retain voting shares of Fort Madison Financial Company and thereby indirectly acquire voting shares of Connection Bank, both of Fort Madison, Iowa.

C. Federal Reserve Bank of Kansas City (Dennis Denney, Assistant Vice President) 1 Memorial Drive, Kansas City, Missouri 64198-0001:

1. Susan Schardt, Kearney, Nebraska, individually, and as co-trustee of the following trusts: Brian Schardt Trust No. 2; the Christina Nokelby Trust No. 2; the Kimberly Schardt Porter Trust No. 2; and the Rebecca Rathjen Trust No. 2, to acquire voting shares of Exchange Company, Kearney, Nebraska, and thereby indirectly acquire voting shares of Exchange Bank, Gibbon, Nebraska.

In addition, Patricia Schardt, Deshler, Nebraska, has applied individually and as trustee of the Ronald P. Schardt Marital Trust and Ronald P. Schardt GS Exempt Marital Trust, to retain voting shares of Exchange Company, and for approval to join as a member of the Schardt Family Group acting in concert, which controls Exchange Company.

Board of Governors of the Federal Reserve System, October 19, 2017.
Ann Misback,
Secretary of the Board.

[FR Doc. 2017-23477 Filed 10-27-17; 8:45 am]

BILLING CODE P